ENVIRONMENTAL PROTECTION AGENCY

[EPA-New England Region I—EPA-R01-OW-2009-0304; FRL-8930-1]

Maine Marine Sanitation Device Standard—Receipt of Petition

AGENCY: Environmental Protection Agency (EPA).

ACTION: Notice—receipt of petition.

SUMMARY: Notice is hereby given that a petition has been received from the State of Maine requesting a determination by the Regional Administrator, U.S. Environmental Protection Agency, that adequate facilities for the safe and sanitary removal and treatment of sewage from all vessels are reasonably available for the waters of Camden, Rockport, Rockland, and portions of Owls Head.

DATES: Comments must be submitted by August 12, 2009.

ADDRESSES: Submit your comments, identified by Docket ID No. EPA-R01-OW-2009-0304, by one of the following methods: http://www.regulations.gov, Follow the on-line instructions for submitting comments.

• E-mail: rodney.ann@epa.gov.

• Fax: (617) 918-0538.

Mail and hand delivery: U.S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2009-0304. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copy-righted material, will be publicly available only in hard copy. Publicly available docket materials are available either electronically in http://www.regulations.gov or in hard copy at the U.S. Environmental Protection Agency—New England Region, One Congress Street, Suite 1100, COP, Boston, MA 02114-2023. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the State of Maine requesting a determination by the Regional Administrator, U.S. Environmental Protection Agency, pursuant to section 312(f)(3) of Public Law 92-500 as amended by Public Law 95-217 and Public Law 100-4, that adequate facilities for the safe and sanitary removal and treatment of sewage from all vessels are reasonably available for the Camden, Rockport, Rockland and Owls Head area.

The proposed No Discharge Area for Camden, Rockport, Rockland and Portions of Owls Head:

Waterbody/general area | From longitude | From latitude | To longitude | To latitude
From USCG navigational aid red and white bell “CH” west across the water to Northeast Point in Camden | 69°2′16.1″ W | 44°12′40.98″ N | 69°2′47.61″ W | 44°12′32.84″ N
From Northeast point west following the shore to the head of navigation in Camden Harbor at the mouth of the “Megunticook River” in Camden | 69°2′47.61″ W | 44°12′32.84″ N | 69°3′51.14″ W | 44°12′37.58″ N
South following the shore to the head of navigation in Rockport Harbor and the mouth of the “Goose River” in Rockport | 69°3′51.14″ W | 44°12′37.58″ N | 69°4′23.79″ W | 44°11′11.35″ N
South following the shore to the extent of navigation of Rockland Harbor and the mouth of the Unnamed stream in Rockland | 69°4′23.79″ W | 44°11′11.35″ N | 69°6′11.65″ W | 44°4′41.42″ N
East following the shore to “Owls Head” in the town of Owls Head | 69°6′11.65″ W | 44°4′41.42″ N | 69°2′36.46″ W | 44°5′30.58″ N
East in a straight line across the water to USGC navigational green can “7” | 69°2′36.46″ W | 44°5′30.58″ N | 69°2′30.06″ W | 44°5′24.95″ N
North in a straight line across the water to USCG navigational aid red and white bell “CH” | 69°2′30.06″ W | 44°5′24.95″ N | 69°2′16.1″ W | 44°12′40.98″ N

The boundaries were chosen based on easy line-of-sight locations and generally represent all navigational waters. The area includes the municipal waters of Camden, Rockport, Rockland and portions of Owls Head.

There are marinas, yacht clubs and public landings/piers in the proposed area with a combination of mooring fields and dock space for the recreational and commercial vessels. Maine has certified that there are six pumpout facilities within the proposed area available to the boating public and the facilities are connected to the municipal sewage system. A list of the facilities, locations, contact information, hours of operation, and water depth is provided at the end of this petition.

Maine has provided documentation indicating that the total vessel population is estimated to be 1151 in the proposed area. It is estimated that 813 of the total vessel population may have a Marine Sanitation Device (MSD) of some type.

The proposed area is identified as a High Value Wildlife Habitat by the U. S. Fish and Wildlife Service. The area constitutes almost 17 square miles of marine habitat, 450 acres of wetlands, and essential habitat for bald eagles. The area is adjacent to and bordered by several State parks including the Clam Cove Scenic Area, and the Owls Head Regional Recreation Area. There is one large marina, a yacht club and public boating facilities in Camden, and a boatyard and a large City owned park and dock in Rockland, and three large marinas, two boat repair facilities, working fishing wharfs and a city waterfront operation, together serving roughly 1151 boats. This area is a popular destination for boaters due to its natural environmental diversity and would benefit from a No Discharge Area.

Pumpout Facilities Within Proposed No Discharge Area—Camden, Rockport, and Rockland
Name | Location | Contact information | Hours | Mean low water depth (in feet)
Harbormaster | Town Landing, Camden | 207-236-3353, VHF 16 | 8 a.m.-5 p.m., 7 days | N/A
Wayfarer Marine | 59 Sea Street, Camden | 207-236-4378, VHF 9 | 8 a.m.-5 p.m., 7 days | 10
Journey's End Marina | 120 Tilson Ave., Rockland | 207-598-4444, VHF 9 | 8 a.m.-5 p.m., 7 days | 8
Landings Marina | Commercial Street, Rockland | 207-596-6573, VHF 9 | 9 a.m.-5 p.m., 7 days | 5
City of Rockland | Rockland Public Landing, Rockland | 207-594-0312, VHF 9 | 9 a.m.-5 p.m., 7 days | 6
Trident Yacht Basin | 60 Ocean Street, Rockland | 207-236-8100, VHF 9 | 9 a.m.-5 p.m., 7 days | 23

Dated: July 2, 2009.
Stephen S. Perkins,
Acting Regional Administrator, New England Region.

[FR Doc. E9-16488 Filed 7-10-09; 8:45 am]

BILLING CODE 6560-50-P